DEPARTMENT OF TRANSPORTATION

National Highway Traffic Safety Administration

Reports, Forms, and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 19, 2004 (69 FR 51544-51545).

DATES: Comments must be submitted on or before June 8, 2005.

ADDRESSES: Send comments, within 30 days, to the Office of Information and Regulatory Affairs, Office of Management and Budget, 725-17th Street, NW., Washington, DC 20503, Attention NHTSA Desk Officer.

FOR FURTHER INFORMATION CONTACT: Alan Block at the National Highway Traffic Safety Administration, Office of Research and Technology (NTI-131), 202-366-6401, 400 Seventh Street, SW., Room 5119, Washington, DC 20590.

SUPPLEMENTARY INFORMATION:

National Highway Traffic Safety Administration

Title: Increasing Safety Belt Use Among Children Ages 8-15.

OMB Number: 2127-New.

Type of Request: New information collection requirement.

Abstract: Little is currently known about the context of safety belt use and non-use by 8-15 year olds. This study will gather information on attitudes, knowledge, and behavior related to safety belts among children in that age range in order to determine strategies for increasing child safety belt use. There will be 27 in-home immersion interviews with families having one or more children age 8-15 (an average of 3.5 interviews per family). In-home immersions are interviews in which researchers visit respondents' homes and have an opportunity to speak with multiple members of the household and to observe how their interactions and environment may either motivate or serve as barriers to eliciting desired behaviors. Each of the 27 immersion sessions will last approximately two hours. Information derived from the immersion interviews will be used to develop intervention or program concepts/ideas that will be tested with children in 96 triad interviews. Each triad will be composed of three children of the same sex, race/ethnicity, and approximate age. Each of the 96 triads will last approximately 75 minutes.

Affected Public: Children age 8-15 and their parents or guardians, from among the general public, who volunteer to participate in the study.

Estimated Total Annual Burden: 549 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued on: May 4, 2005.
Marilena Amoni,
Associate Administrator, Program Development and Delivery.

[FR Doc. 05-9205 Filed 5-6-05; 8:45 am]

BILLING CODE 4910-59-P